DEPARTMENT OF AGRICULTURE

Office of the Under Secretary, Research, Education, and Economics; Notice of the Advisory Committee on Biotechnology and 21st Century Agriculture Meeting

AGENCY: Agricultural Research Service, USDA.

ACTION: Notice of meeting.

SUMMARY: In accordance with the Federal Advisory Committee Act, 5 U.S.C. App. II, the United States Department of Agriculture announces a meeting of the Advisory Committee on Biotechnology and 21st Century Agriculture (AC21).

DATES: March 27-29, 2006, 8 a.m. to 5 p.m. on March 27, 8 a.m. to 4 p.m. on March 28, and 8 a.m. to noon on March 29. Written requests to make oral presentations at the meeting must be received by the contact person identified herein at least three business days before the meeting.

ADDRESSES: Waugh Auditorium, USDA Economic Research Service, Third Floor, South Tower, 1800 M St., NW., Washington, DC 20036. Requests to make oral presentations at the meeting may be sent to the contact person at USDA, Office of the Deputy Secretary, 202 B Jamie L. Whitten Federal Building, 12th Street and Jefferson Drive, SW., Washington, DC 20250.

FOR FURTHER INFORMATION CONTACT: Michael Schechtman, Designated Federal Official, Office of the Deputy Secretary, USDA, Telephone (202) 720-3817; Fax (202) 690-4265; E-mail mschechtman@ars.usda.gov.

SUPPLEMENTARY INFORMATION: The twelfth meeting of the AC21 has been scheduled for March 27-29, 2006. The AC21 consists of 20 members representing the biotechnology industry, international plant genetics research, farmers, food manufacturers, commodity processors and shippers, environmental and consumer groups, and academic researchers. In addition, representatives from the Departments of Commerce, Health and Human Services, and State, and the Environmental Protection Agency, the Council on Environmental Quality, and the Office of the United States Trade Representative serve as “ex officio” members. At this meeting, the Committee aims to: introduce new AC21 members; complete work on a paper examining the impacts of agricultural biotechnology on American agriculture and USDA over the next 5 to 10 years, through review and revision of the current draft Chair's text for the paper; and consider preliminary presentations and introductory discussions related to two upcoming committee projects. The projects are the following: (1) What are the effects (in terms of planting decisions, markets, and rural communities) of coexistence issues on the development and use of new crops derived through modern biotechnology? and (2) What avenues of technology transfer or actions by USDA are most likely to result in the production of biotechnology-derived crops— other than large-scale, commingled, major commodity uses— that would have the greatest positive impacts on domestic markets, rural communities in the United States, and developing nations?

Background information regarding the work of the AC21 will be available on the USDA Web site at http://www.usda.gov/wps/portal/!ut/p/_s.7_0_A/7_0_1OB?contentidonly=true&contentid=AC21Main.xml.

On March 27, 2006, if time permits, reasonable provision will be made for oral presentations of no more than five minutes each in duration. The meeting will be open to the public, but space is limited. If you would like to attend the meetings, you must register by contacting Ms. Dianne Harmon at (202) 720-4074, by fax at (202) 720-3191 or by e-mail at dharmon@ars.usda.gov at least 5 days prior to the meeting. Please provide your name, title, business affiliation, address, and telephone and fax numbers when you register. If you require a sign language interpreter or other special accommodation due to disability, please indicate those needs at the time of registration.

Dated: February 28, 2006.
Bernice Slutsky,
Special Assistant for Biotechnology.

[FR Doc. E6-3097 Filed 3-3-06; 8:45 am]

BILLING CODE 3410-03-P